FEDERAL COMMUNICATIONS COMMISSION

47 CFR Part 25

[IB Docket 01-96; FCC 01-134]

Policies and Service Rules for the Non-Geostationary Satellite Orbit,Fixed Satellite Service in the Ku-Band; Correction

AGENCY: Federal Communications Commission.

ACTION: Proposed rule; correction.

SUMMARY: This documents corrects one sentence in the preamble to a proposed rule published in the Federal Register of June 6, 2001, regarding Policies and Service Rules for the Non-Geostationary Satellite Orbit, Fixed Satellite Service in the Ku-Band. This correction includes the proper radio frequency bands cited in the sentence.

FOR FURTHER INFORMATION CONTACT: J. Mark Young, 202-418-0762.

Correction

In proposed rule FR Doc. 01-14141, beginning on page 30361 in the issue of June 6, 2001, make the following correction, in the “Summary” section. On page 30361 in the 3rd column, the first sentence is corrected to read as follows: “The Federal Communications Commission (FCC) proposes to decide the means for sharing among multiple satellite network licensees in spectrum recently designated for the non-geostationary satellite orbit, fixed-satellite service (NGSO FSS) in the 10.7-12.7 GHz, 12.75-13.25 GHz and 13.75-14.5 GHz frequency bands (the Ku-band).”

Dated: June 21, 2001.
Federal Communications Commission.
Magalie Roman Salas,
Secretary.

[FR Doc. 01-16189 Filed 6-26-01; 8:45 am]

BILLING CODE 6712-01-P